DEPARTMENT OF ENERGY

Office of Energy Efficiency and Renewable Energy

H2 Refuel H-Prize Schedule Update

AGENCY: Office of Energy Efficiency and Renewable Energy, Department of Energy (DOE).

ACTION: Notice of Schedule Update to the H2 Refuel H-Prize Competition Guidelines.

SUMMARY: In this notice, DOE is extending the completion schedule for its H2 Refuel H-Prize competition. On October 28, 2014, the Department of Energy (DOE) announced the $1 million competition in the Federal Register, allowing teams from across the United States to compete to develop systems that generate and dispense hydrogen from resources commonly available to residences (electricity or natural gas) for use in homes, community centers, businesses or similar locations, to supplement the current infrastructure roll-out and reduce barriers to using hydrogen fuel cell electric vehicles. These Guidelines were updated in a September 3, 2015, Federal Register notice. Both the original and updated guidelines included a competition schedule. A delay in announcing the finalist selection significantly reduced the period for system construction before the start of the originally planned testing period. The announcement was originally planned for December 2015 to provide seven months for the system build as described by the guidelines. However, the announcement was delayed until January 29, 2016. Therefore, DOE is updating the completion schedule to allow a reasonable construction period.

DATES: Key Upcoming Dates.

—Summer 2016: Finalist system testing begins

—Fall 2016: Competition ends, data will be analyzed to determine winner

—Early 2017: Anticipated award of $1 million prize, if the Panel of Judges determines that there is a winning entry.

ADDRESSES: The H-Prize Web site is http://hydrogenprize.org, where updates and announcements will be posted throughout the competition.

FOR FURTHER INFORMATION CONTACT: Questions may be directed to—Technical information: Katie Randolph at 240-562-1759 or by email at HPrize@ee.doe.gov.

Prize contest: Emanuel Wagner, Contest Manager, Hydrogen Education Foundation, at 202-457-0868 x360 or by email at EWAGNER@ttcorp.com.

SUPPLEMENTARY INFORMATION: The Department of Energy (DOE) announced the $1 million H2 Refuel H-Prize competition in the Federal Register on October 28, 2014 (79 FR 64179). The Guidelines were updated in a September 3, 2015 Federal Register notice (80 FR 53286). The competition opened on October 29, 2014. The preliminary data submission date was October 29, 2015. In this notice, DOE updates the completion schedule for the competition, as described in the DATES section.

Issued in Washington, DC, on April 28, 2016.
Sunita Satyapal,
Fuel Cell Technology Office Director.

[FR Doc. 2016-10425 Filed 5-3-16; 8:45 am]

BILLING CODE 6450-01-P